DEPARTMENT OF ENERGY

Federal Energy Regulatory Commission

[Docket No. CP08-50-000]

Trunkline Gas Company, LLC; Errata Notice

January 16, 2008.

On January 14, 2008, the Commission issued a “Notice of Request Under Blanket Authorization (Notice) in the above docketed proceeding. That Notice is corrected as follows:

In paragraph three of the Notice, “Stephen T. Veach” should be replaced with “Stephen T. Veatch,” “Trunkline Gas Company” should be replaced with “Trunkline Gas Company, LLC” and Mr. Veatch's e-mail address should be changed to “stephen.veatch@sug.com.”

On Page 2, the notice inadvertently has a “comment date of February 4, 2008.” Please disregard the February 4, 2008 comment date. The notice correctly states and provides that: “Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (18 CFR 157.205), a protest to the request. If no protest is filed within the time allowed therefore, the proposed activity shall be deemed to be authorized effective the day after the time allowed for protest. If a protest is filed and not withdrawn within 30 days after the time allowed for filing a protest, the instant request shall be treated as an application for authorization pursuant to section 7 of the NGA.”

Kimberly D. Bose,
Secretary.

[FR Doc. E8-1151 Filed 1-23-08; 8:45 am]

BILLING CODE 6717-01-P